DEPARTMENT OF COMMERCE

International Trade Administration

Overseas Trade Missions

AGENCY: International Trade Administration, Department of Commerce.

ACTION: Notice.

SUMMARY: The Department of Commerce invites U.S. companies to participate in the following overseas trade missions to be held between August and November 2000. For a more complete description of the trade mission, obtain a copy of the mission statement from the Project Officer indicated below. The recruitment and selection of private sector participants for these missions will be conducted according to the Statement of Policy Governing Department of Commerce Overseas Trade Missions announced by Secretary Daley on March 3, 1997.

Clean Energy Trade Mission to Indonesia

Jakarta, Indonesia

August 29-30, 2000

Recruitment closes June 1, 2000

For further information contact: Kathryn Hollander, U.S. Department of Commerce, Tel: 202-482-0385, Fax: 482-0170,­ E-Mail: Kathryn_Hollander@ita.doc.gov

Natural Gas Technology/Power Plant Retrofitting Business Development Mission to Mexico

Mexico City and Monterrey, Mexico

September 10-14, 2000

Recruitment closes June 1, 2000

For further information contact: Samuel Beatty, U.S. Department of Commerce, Tel: 202-482-0179, Fax: 202-482-0170, E-Mail: Samuel_Beatty@ita.doc.gov

District Heating Mission to Russia

Moscow and St. Petersburg, Russia

October 15-21, 2000

Recruitment closes June 1, 2000

For further information contact: Rachel Halpern, U.S. Department of Commerce, Tel: 202-482-4423, Fax: 202-482-0170, E-Mail: Rachel_Halpern@ita.doc.gov

Clean Energy Trade Mission to Saudi Arabia

The United Arab Emirates, Qatar and Oman

October 24-November 1, 2000

Recruitment closes June 1, 2000

For further information contact: Joseph Ayoub, U.S. Department of Commerce, Tel: 202-482-0313, Fax: 202-482-0170, E-Mail: Joseph_Ayoub@ita.doc.gov

Natural Gas and Cogeneration Technologies Business Development Mission

Rio de Janeiro and Sao Paulo, Brazil

November 5-9, 2000

Recruitment closes June 1, 2000

For further information contact: Sam Beatty, U.S. Department of Commerce, Tel: 202-482-4179, Fax: 202-482-0170, E-mail: Samuel_Beatty@ita.doc.gov

Power Plant Renovation & Modernization/Natural Gas Utilization/Renewable Energy

Trade Mission to South Africa,

Pretoria and Johannesburg, South Africa

November 13-17, 2000

Recruitment closes June 1, 2000

For further information contact: John Rasmussen, U.S. Department of Commerce, Tel: 482-1889, Fax: 202-482-0170, E-mail: John Rasmussen@ita.doc.gov

Clean Energy Trade Mission to China

Beijing, Chengdu and Guangzhou, China

November 20-24, 2000

Recruitment closes June 1, 2000

For further information contact: Kathryn Hollander, U.S. Department of Commerce, Tel: 202-482-0385, Fax: 202-482-0170, E-mail: Kathryn_Hollander@ita.doc.gov

Clean Energy Trade Mission to India

New Delhi, Chennai, Calcutta and Mumbai, India

November 26-December 3, 2000

Recruitment closes June, 2000

For further information contact: Nazir Bhagat, U.S. Department of Commerce, Tel: 202-482-3855, Fax: 202-482-5666, E-mail Nazir_Bhagat@ita.doc.gov

FOR FURTHER INFORMATION CONTACT: Reginald Beckham , U.S. Department of Commerce. Tel: 202-482-5478, Fax: 202-482-1999.

Dated: April 12, 2000.
Tom Nisbet,
Director, Promotion Planning and Support Division, Office of Export Promotion Coordination.

[FR Doc. 00-9689 Filed 4-17-00; 8:45 am]

BILLING CODE 3510-DR-P